FEDERAL RESERVE SYSTEM

Notice of Proposals to Engage in Permissible Nonbanking Activities or to Acquire Companies that are Engaged in Permissible Nonbanking Activities

The companies listed in this notice have given notice under section 4 of the Bank Holding Company Act (12 U.S.C. 1843) (BHC Act) and Regulation Y (12 CFR Part 225) to engage de novo, or to acquire or control voting securities or assets of a company, including the companies listed below, that engages either directly or through a subsidiary or other company, in a nonbanking activity that is listed in § 225.28 of Regulation Y (12 CFR 225.28) or that the Board has determined by Order to be closely related to banking and permissible for bank holding companies. Unless otherwise noted, these activities will be conducted throughout the United States.

Each notice is available for inspection at the Federal Reserve Bank indicated. The notice also will be available for inspection at the offices of the Board of Governors. Interested persons may express their views in writing on the question whether the proposal complies with the standards of section 4 of the BHC Act. Additional information on all bank holding companies may be obtained from the National Information Center website at www.ffiec.gov/nic/.

Unless otherwise noted, comments regarding the applications must be received at the Reserve Bank indicated or the offices of the Board of Governors not later than October 14, 2003.

A. Federal Reserve Bank of New York (Jay Bernstein, Bank Supervision Officer) 33 Liberty Street, New York, New York 10045-0001:

1. Credit Agricole S.A., and SAS Rue la Boetie, both of Paris France; to retain the voting shares of Credit Lyonnais, Paris, France, and thereby control the U.S. nonbanking subsidiaries of Credit Lyonnais and engage in making, acquiring, brokering, or servicing loans or other extensions of credit pursuant to section 225.28(b)(1) of Regulation Y; leasing personal or real property or acting as agent, broker or adviser in leasing of such property pursuant to section 225.28(b)(3) of Regulation Y; acting as investment or financial advisory to any person pursuant to section 225.28(b)(6) of Regulation Y; acting as a futures commission merchant pursuant to section 225.28(b)(7)(iv) of Regulation Y.

B. Federal Reserve Bank of Kansas City (James Hunter, Assistant Vice President) 925 Grand Avenue, Kansas City, Missouri 64198-0001:

1. First Centralia Bancshares, Inc., Centralia, Kansas; to acquire up to 41.34 percent of FBC Financial Corporation, and thereby indirectly acquire 1st Bank Oklahoma, both of Claremore, Oklahoma, and thereby engage in operating a savings association, pursuant to section 225.28(b)(4)(ii) of Regulation Y. Comments regarding this application must be received at the Reserve Bank indicated or the offices of the Board of Governors not later than October 24, 2003.

2. Morrill Bancshares, Inc., Merriam, Kansas; to acquire up to 41.34 percent of FBC Financial Corporation, and thereby indirectly acquire 1st Bank Oklahoma, both of Claremore, Oklahoma, and thereby engage in operating a savings association, pursuant to section 225.28(b)(4)(ii) of Regulation Y. Comments regarding this application must be received at the Reserve Bank indicated or the offices of the Board of Governors not later than October 24, 2003.

3. Davis Bancorporation, Inc., Davis, Oklahoma; to acquire up to 13.78 percent of FBC Financial Corporation, and thereby indirectly acquire 1st Bank Oklahoma, both of Claremore, Oklahoma, and thereby engage in operating a savings association, pursuant to section 225.28(b)(4)(ii) of Regulation Y. Comments regarding this application must be received at the Reserve Bank indicated or the offices of the Board of Governors not later than October 24, 2003.

Board of Governors of the Federal Reserve System, September 24, 2003.
Robert deV. Frierson,
Deputy Secretary of the Board.

[FR Doc.03-24631 Filed 9-29-03; 8:45 am]

BILLING CODE 6210-01-S